DEPARTMENT OF TRANSPORTATION

Office of the Secretary

Aviation Proceedings, Agreements Filed the Week Ending March 18, 2005

The following Agreements were filed with the Department of Transportation under the provisions of 49 U.S.C. 412 and 414. Answers may be filed within 21 days after the filing of the application.

Docket Number: OST-2005-20676.

Date Filed: March 16, 2005.

Parties: Members of the International Air Transport Association.

Subject:

PTC12 MATL-EUR 0093 dated 11 February 2005

Mid Atlantic-Europe Resolutions, r1-r11

PTC12 MATL-EUR 0095 dated 16 March 2005

PTC12 MATL-EUR Fares 0040 dated 15 February 2005

Mid Atlantic-Europe Specified Fares Tables

PTC12 MATL-EUR 0094 dated 18 March 2005

Amendment to Commencement of Filing Period

Intended effective date: 1 April 2005.

Docket Number: OST-2005-20677.

Date Filed: March 16, 2005.

Parties: Members of the International Air Transport Association.

Subject:

PTC12 SATL-EUR 0130 dated 11 February 2005

South Atlantic-Europe Resolutions r1-r11

PTC12 SATL-EUR 0132 dated 16 March 2005

PTC12 SATL-EUR 0041 dated 11 February 2005

South Atlantic-Europe Specified Fares Tables

PTC12 SATL-EUR Fares 0042 dated 22 February 2005

Correction to Memorandum Number

PTC12 SATL-EUR 0131 dated 18 March 2005

Amendment to Commencement of Filing Period

Intended effective date: 1 April 2005.

Docket Number: OST-2005-20678.

Date Filed: March 16, 2005.

Parties: Members of the International Air Transport Association.

Subject:

PTC12 MEX-EUR 0070 dated 11 February 2005

Mexico-Europe Resolutions r1-r13

PTC12 MEX-EUR 0072 dated 16 March 2005

PTC12 MEX-EUR Fares 0032 dated 18 February 2005

Mexico-Europe Specified Fares Tables

PTC12 MEX-EUR 0071 dated 18 March 2005

Amendment to Filing Period

Intended effective date: 1 May 2005.

Docket Number: OST-2005-20702.

Date Filed: March 15, 2005.

Parties: Members of the International Air Transport Association.

Subject:

PSC/Reso/122 dated March 4, 2005

Finally Adopted Resolutions & Recommended Practices r1-28

PSC/Mins/011 dated March 4, 2005

Intended effective date: June 1, 2005.

Docket Number: OST-2005-20703.

Date Filed: March 18, 2005.

Parties: Members of the International Air Transport Association.

Subject:

MV/PSC/014 dated 07 February 2005

Mail Vote Number S 081

Recommended Practice 1720a—Standard Thirteen

Digit Numbering System for Traffic Documents

Intended effective date: 1 April 2005.

Renee V. Wright,
Acting Program Manager, Docket Operations, Alternate Federal Register Liaison.

[FR Doc. 05-6724 Filed 4-5-05; 8:45 am]

BILLING CODE 4910-62-P